DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet February 24, 2016, 9:00 a.m. to 5:00 p.m.

The meeting is open to the public and will include discussion of the Center's policy issues, and current administrative, legislative, and program developments. The meeting will be held at the SAMHSA building, Conference Room 5E29, 5600 Fishers Lane, Rockville, MD 20857. Attendance by the public will be limited to space available. Interested persons may present data, information, or views, orally or in writing, on issues pending before the Committee. Written submissions should be forwarded to the contact person on or before February 14, 2016. Oral presentations from the public will be scheduled at the conclusion of the meeting. Individuals interested in making oral presentations are encouraged to notify the contact on or before February 14, 2016. Five minutes will be allotted for each presentation.

The meeting may be accessed via telephone and web conferencing might be available. To attend on site, obtain the call-in number, access code, and/or web access link; submit written or brief oral comments, or request special accommodations for persons with disabilities, please register on-line at: http://nac.samhsa.gov/Registration/meetingsRegistration.aspx, or communicate by contacting the CMHS National Advisory Council Designated Federal Official, Ms. Deborah DeMasse-Snell (see contact information below).

Committee Name: SAMHSA's Center for Mental Health Services National Advisory Council.

Date/Time/Type: February 24, 2016; 9:00 a.m.-5:00 p.m., OPEN.

Place: SAMHSA Building, 5600 Fishers Lane, Conference Room 5E29, Rockville, Maryland 20857.

Contact: Deborah DeMasse-Snell, M.A. (Than), Designated Federal Official, SAMHSA CMHS National Advisory Council, 5600 Fishers Lane, Room 14E53C, Rockville, Maryland 20857, Telephone: (240) 276-1861, Fax: (240) 276-1850, Email: Deborah.DeMasse-Snell@samhsa.hhs.gov.

Summer King,
Statistician, SAMHSA.

[FR Doc. 2015-32922 Filed 12-30-15; 8:45 am]

BILLING CODE 4162-20-P